DEPARTMENT OF THE INTERIOR

Fish and Wildlife Service

[FWS-R9-MB-2008-N0349; 91200-1231-5BBC-K3]

Availability of Birds of Conservation Concern 2008

AGENCY: Fish and Wildlife Service, Interior.

ACTION: Notice of availability.

SUMMARY: We announce the availability of Birds of Conservation Concern 2008. This publication identifies species, subspecies, and populations of migratory and nonmigratory birds in need of additional conservation actions. We hope to stimulate coordinated and collaborative proactive conservation actions among Federal, State, tribal, and private partners.

DATES: Individuals wishing to comment on the process used in developing Birds of Conservation Concern 2008, especially to provide recommendations for improving future versions of the document, may direct their written comments to the Chief, Division of Migratory Bird Management (listed below under ADDRESSES ). All comments received will be filed for use in developing the next version of the list. Comments will be accepted until the time that work begins on the next edition of this report (approximately 5 years).

ADDRESSES: Printed copies of Birds of Conservation Concern 2008 may be obtained by writing to the Chief, Branch of Bird Conservation, Division of Migratory Bird Management, U.S. Fish and Wildlife Service, 4401 North Fairfax Drive, Mail Stop 4107, Arlington, VA 22203-1610, ATTN: BCC 2008. This document is also available for downloading on the Division of Migratory Bird Management's World Wide Web page at http://migratorybirds.fws.gov.

FOR FURTHER INFORMATION CONTACT: Marcia Maslonek, Chief, Branch of Bird Conservation, Division of Migratory Bird Management, U.S. Fish and Wildlife Service, 4401 North Fairfax Drive, Mail Stop 4107, Arlington, VA 22203-1610; phone: (703) 358-2021; fax: (703) 358-2272.

SUPPLEMENTARY INFORMATION: The 1988 amendment to the Fish and Wildlife Conservation Act (FWCA) of 1980 (Pub.L. 100-653, Title VIII) requires the Secretary of the Interior, through the U.S. Fish and Wildlife Service, to “identify species, subspecies, and populations of all migratory nongame birds that, without additional conservation actions, are likely to become candidates for listing under the Endangered Species Act [ESA] of 1973.” Birds of Conservation Concern 2008 fulfills that mandate and supersedes Birds of Conservation Concern 2002. The species that appear in Birds of Conservation Concern 2008 are deemed to be the highest priority for conservation actions. We anticipate that the document will be consulted by Federal agencies and their partners prior to undertaking cooperative research, monitoring, and management actions that might directly or indirectly affect migratory birds. Our goal in publishing this document is to stimulate coordinated and collaborative proactive conservation actions among Federal, State, tribal, and private partners.

To serve as a broad early-warning system in the context of the FWCA, this document includes all of the species that we have some basis to consider to be of conservation concern. Our objective in publishing this list is to focus conservation attention on bird species of concern well in advance of a possible or plausible need to consider them for listing under the ESA. Inclusion on this list does not constitute a finding that listing under the ESA is warranted, or that substantial information exists to indicate that listing under the ESA may be warranted. Many of the species on this list will probably never have to be considered for ESA listing, even if no additional conservation actions are taken.

Authority: The Fish and Wildlife Conservation Act of 1980, as amended (16 U.S.C. 2901 et seq.); the Endangered Species Act of 1973, as amended (16 U.S.C. 1531 et seq.); the Fish and Wildlife Act of 1956; as amended (16 U.S.C. 742a et seq.); and 16 U.S.C. 701.

Dated: February 27, 2009.
Rowan W. Gould,
Acting Director, U.S. Fish and Wildlife Service.

[FR Doc. E9-5548 Filed 3-13-09; 8:45 am]

BILLING CODE 4310-55-P